DEPARTMENT OF THE INTERIOR

Fish and Wildlife Service

[FWS-R8-ES-2016-N242; FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before February 4, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-82102B-0

Applicant: Zoological Society of San Diego, San Diego, California

The applicant requests a permit to take (harass by survey, capture, handle, conduct nest monitoring, release, collect biological samples, fit with radio transmitters, transport, band, captive rear, display publically, and conduct daily husbandry) the California condor (Gymnogyps californianus) in conjunction with captive rearing, research, reintroduction into the wild, and survey activities throughout the range of the species for the purpose of enhancing the species' survival.

Permit No. TE-82155B

Applicant: Johanna Page, Pasadena, California

The applicant requests a permit to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with surveys throughout the range of the species in California for the purpose of enhancing the species' survival.

Permit No. TE-096745

Applicant: Scott Larson, Oakhurst, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi), and to take (harass by survey, capture, handle, and release) the California tiger salamander (Santa Barbara County and Sonoma County Distinct Population Segment (DPS)) (Ambystoma californiense) in conjunction with survey activities throughout the range of the species in California for the purpose of enhancing the species' survival.

Permit No. TE-134370

Applicant: Brant Primrose, San Marcos, California

The applicant requests a permit renewal to take (survey by pursuit) the Quino checkerspot butterfly (Euphydryas editha quino) in conjunction with survey activities throughout the range of the species for the purpose of enhancing the species' survival.

Permit No. TE-17827A

Applicant: Summit Lake Paiute Tribe, Sparks, Nevada

The applicant requests a permit amendment to take (harass by survey, capture, handle, collect and sacrifice for diet and isotope analysis, collect scales, implant passive integrated transponder (PIT) and visible implant elastomer (VIE) tags, and release) the Lahontan cutthroat trout (Oncorhynchus clarkii henshawi) in conjunction with surveys and population studies within the Summit Lake Paiute Reservation, Nevada, for the purpose of enhancing the species' survival.

Permit No. TE-839078

Applicant: Spencer Langdon, San Pedro, California

The applicant requests a permit amendment and renewal to take (harass by survey and locate and monitor nests) the California least tern (Sternula antillarum browni) (Sterna a. browni) in conjunction with surveys and population studies throughout the range of the species in Los Angeles County, California for the purpose of enhancing the species' survival.

Permit No. TE-797665

Applicant: RECON Environmental, Inc., San Diego, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (locate and monitor nests, and remove brown-headed cowbird eggs and chicks from parasitized nests) the least Bell's vireo (Vireo bellii pusillus); take (harass by survey, capture, handle, and release) the Pacific pocket mouse (Perognathus longimembris pacificus) and San Bernardino Merriam's kangaroo rat (Dipodomys merriami parvus); take (harass by survey, capture, handle, collect hair samples, and release) the Stephens' kangaroo rat (Dipodomys stephensi); and take (survey by pursuit) the Quino checkerspot butterfly (Euphydryas editha quino) in conjunction with survey and population monitoring activities throughout the range of each of the species in California; take (harass by survey, locate and monitor nests, and remove brown-headed cowbird (Molothrus ater) eggs and chicks from parasitized nests) the southwestern willow flycatcher (Empidonax traillii extimus) in conjunction with survey and population monitoring activities throughout the range of the species in Arizona, California, Colorado, New Mexico, and Utah; and to remove/reduce to possession the following species on Federal lands, in conjunction with surveys and population studies throughout the range of the species in California for the purpose of enhancing the species' survival:

• Pogogyne abramsii (San Diego mesa-mint)

• Orcuttia californica (California orcutt grass)

• Eryngium aristulatum var. parishii (San Diego button-celery)

• Pogogyne nudiuscula (Otay mesa-mint)

• Deinandra conjugens (Hemizonia c.) (Otay tarplant)

• Allium munzii (Munz's onion)

• Arctostaphylos glandulosa subsp. crassifolia (Del Mar manzanita)

• Monardella viminea (M. linoides subsp. v.) (willowy monardella)

• Ambrosia pumila (San Diego ambrosia)

Permit No. TE-002243

Applicant: Bighorn Institute, Palm Desert, California

The applicant requests a permit renewal to take (capture, handle, collect biological samples, radio-collar, survey, euthanize critically ill or injured wild or captive-reared individuals unable to recover, and release) the Nelson bighorn sheep (Peninsular Ranges distinct population segment; Peninsular bighorn sheep) (Ovis canadensis nelsoni) in conjunction with surveys and population studies throughout the range of the species for the purpose of enhancing the species' survival.

Permit No. TE-005535

Applicant: Gilbert Goodlett, Ridgecrest, California

The applicant requests a permit renewal to take (survey by pursuit) the Quino checkerspot butterfly (Euphydryas editha quino) and Delhi Sands flower-loving fly (Rhaphiomidas terminatus abdominalis) in conjunction with survey activities throughout the range of the species for the purpose of enhancing the species' survival.

Permit No. TE-052159

Applicant: Jeff Ahrens, Irvine, California

The applicant requests a permit renewal to take (harass by survey) the southwestern willow flycatcher (Empidonax traillii extimus) in conjunction with surveys and population studies throughout the range of the species in California for the purpose of enhancing the species' survival.

Permit No. TE-83957B

Applicant: Monica Brick, San Luis Obispo, California

The applicant requests a permit to take (harass by survey, capture, handle, release) the giant kangaroo rat (Dipodomys ingens) and Tipton kangaroo rat (Dipodomys nitratoides nitratoides) in conjunction with surveys throughout the range the species in California for the purpose of enhancing the species' survival.

Permit No. TE-83958B

Applicant: Jared Elia, Concord, California

The applicant requests a permit to take (harass by survey, capture, handle, and release) the California tiger salamander (Santa Barbara County and Sonoma County Distinct Population Segment (DPS)) (Ambystoma californiense) in conjunction with survey activities throughout the range of the species in California for the purpose of enhancing the species' survival.

Permit No. TE-785564

Applicant: Bumgardner Biological Consulting, Gold River, California

The applicant requests a permit renewal to take (harass by survey, capture, handle, mark, collect tissue samples, and release) the California tiger salamander (Santa Barbara County and Sonoma County DPS) (Ambystoma californiense); take (harass by survey) the California Ridgway's rail (California clapper r.) (Rallus obsoletus obsoletus) (R. longirostris o.) in conjunction with surveys and population studies throughout the range of the species in California; and take (harass by survey) the southwestern willow flycatcher (Empidonax traillii extimus) in conjunction with surveys and population studies throughout the range of the species in Arizona, California, and Nevada for the purpose of enhancing the species' survival.

Permit No. TE-090990

Applicant: Santa Catalina Island Conservancy, Avalon, California

The applicant requests a permit renewal and amendment to take (harass by survey, capture, handle, measure, implant PIT tags, radio-collar, vaccinate, collect and test biological samples, transport, maintain in captivity, release to the wild, and euthanize for humane reasons) the Santa Catalina Island fox (Urocyon littoralis catalinae) in conjunction with survey and research activities throughout the range of the species in California for the purpose of enhancing the species' survival.

Permit No. TE-031850

Applicant: Gretchen Cummings, Ramona, California

The applicant requests a permit renewal to take (survey by pursuit) the Quino checkerspot butterfly (Euphydryas editha quino) in conjunction with survey activities throughout the range of the species in California for the purpose of enhancing the species' survival.

Permit No. TE-97450A

Applicant: James Hobbs, Davis, California

The applicant requests a permit amendment to take (harass by survey, capture, handle, release, and collect) the delta smelt (Hypomesus transpacificus) in conjunction with scientific research throughout the range of the species in Petaluma River and Sonoma Creek, Sonoma County; Napa River and Napa-Sonoma Marsh Wildlife Area in Napa County; San Pablo Bay in Alameda and Marin Counties; Suisun Bay and Suisun Marsh in Alameda and Solano Counties; and the Bay Delta in Sacramento, Yolo, and San Joaquin Counties in California for the purpose of enhancing the species' survival.

Permit No. TE-84031B

Applicant: Jessica Self, Riverside, California

The applicant requests a permit to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) and take (harass by survey) the Casey's June beetle (Dinacoma caseyi) in conjunction with survey activities throughout the range of the species for the purpose of enhancing the species' survival.

Permit No. TE-48149A

Applicant: Tammy Lim, Oakland, California

The applicant requests a permit renewal to take (harass by survey, capture, handle, and release) the California tiger salamander (Santa Barbara County and Sonoma County Distinct Population Segment (DPS)) (Ambystoma californiense) and take (harass by survey, capture, handle, mark, and release) the San Francisco garter snake (Thamnophis sirtalis tetrataenia) in conjunction with survey activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2015-33146 Filed 1-4-16; 8:45 am]

BILLING CODE 4310-15-P